DEPARTMENT OF DEFENSE

Department of the Army, Corps of Engineers

Intent To Prepare a Draft Environmental Impact Statement for the Little Colorado River at Winslow, a Feasibility Study of a Portion of the Little Colorado River From Chevelon Canyon to the North End of the Winslow Levee, in and Near Winslow, Navajo County, AZ

AGENCY: Department of the Army, U.S. Army Corps of Engineers, DOD.

ACTION: Notice of intent.

SUMMARY: Analyses of foreseeable environmental impacts from potential actions along the Little Colorado River in the vicinity of the City of Winslow, Navajo County, AZ, will commence. No explicit plans have been advanced as yet, so contents of the Draft Environmental Impact Statement (DEIS) remain to be determined during the public scoping process. The Little Colorado River at Winslow Study area encompasses the floodplain of the Little Colorado River (LCR) from Chevelon Canyon downstream (northwest) to the north end of the existing Winslow Levee, a distance of about 18 river miles. The study area includes the majority of the City of Winslow, including the Ruby Wash Diversion Levee and the Ruby Wash Levee.

The purposes of this Feasibility Study are to develop and evaluate potential non-structural and engineered solutions to address flooding issues within the City of Winslow, and to investigate potential opportunities for ecosystem restoration along the LCR and its tributaries in the vicinity of Winslow. There is also an opportunity to provide much-needed recreational opportunities concurrent with flood risk management and ecosystem restoration. If there are measures and alternatives or plans that could be implemented within the U.S. Army Corps of Engineers, (USACE) missions, Navajo County has indicated their interest to support and provide necessary cost-sharing and other requirements for the project. Navajo County has identified within this length of the river needs associated with loss of native riparian habitat and the presence of significant cultural resources. Those needs will guide the formulation of plans for this segment of the Little Colorado River. The USACE and Navajo County, AZ, will cooperate in conducting this Feasibility Study.

ADDRESSES: District Engineer, U.S. Army Corps of Engineers, Los Angeles District, ATTN: CESPL-PD-RP, P.O. Box 532711, Los Angeles, CA 90053-2325.

FOR FURTHER INFORMATION CONTACT: Mr. Michael J. Fink, Environmental Manager, telephone (602) 640-2001, ext. 232, or Mr. Mike Ternak, Project Manager, telephone (602) 640-2004, ext. 272. The cooperating entity, Navajo County, requests inquiries be directed to Mr. Homero Vela, telephone (928) 524-4000, for any additional information.

SUPPLEMENTARY INFORMATION: 1. Authorization. This study has been conducted under the authority provided by the Flood Control Act of 1937. This authority amends the Flood Control Act of 1936 to permit the Secretary of the Army, through the Chief of Engineers, to conduct preliminary examinations and surveys for flood control at the Little Colorado River upstream from the boundary of the Navajo Indian Reservation. Further authority is provided under House Committee on Public Works Resolution (Docket 2425) May 17, 1994 which states:

* * * The Secretary of Army is hereby requested to review reports of the Chief of Engineers on the State of Arizona * * * in the interest of flood damage reduction, environmental protection and restoration, and related purposes.

2. Background. The Little Colorado River (LCR) Watershed encompasses an area of approximately 27,051 square miles in northeastern Arizona and northwestern New Mexico. The drainage basin of the LCR is about 245 miles long and 158 miles wide at the widest point. The mainstem of the LCR is entirely in Arizona, has a channel length of 356 miles, and total elevation drop of about 6,300 feet from its headwaters in the White Mountains to its confluence with the Colorado River. The LCR flows in generally a northwest direction and receives runoff from 18 sub-watershed basins and contributing drainage areas with hundreds of miles of small tributary streams. The tributaries of Ruby Wash, Clear Creek, Cottonwood Wash and Salt Creek join the LCR within the study area. The LCR joins the Colorado River in the Grand Canyon on the northwest edge of the basin. The City of Winslow is located in the west-central part of the LCR Watershed in western Navajo County, AZ.

The LCR was once a broad and flat bottomland environment, conveying shallow perennial flows along a braided, meandering channel. As a result, numerous backwater sloughs and marshes offered appropriate biotic conditions and habitat for a diversity of riparian species. Today the LCR is a deep, narrow, incised channel which experiences only intermittent to ephemeral flows. This entrenchment has disconnected large parts of the floodplain from the river. During flooding, channel migration results from sedimentation deposition and scour. This erosion has contributed to habitat degradation and threatened cultural resources throughout the Watershed. Riparian vegetation has been largely replaced by the non-native salt cedar, which forms almost pure in-channel stands. Changes in vegetation types, channel morphology and sediment transport are believed to be contributing to the flooding problems being experienced by the Winslow community.

In response to recurrent flooding problems along the LCR, Navajo County requested assistance from the Arizona Department of Water Resources (ADWR) to build the Winslow Levee in 1979. The 7.2 mile Winslow Levee was constructed along the west side of the LCR between 1986 and 1989 for the purpose of providing 100-year flood protection to the city. This levee has failed twice in recent years. The levee was overtopped in 1993, resulting in washout of a 400-foot levee section, and damage to an additional 3,000 feet of levee. The resulting flooding inundated 204 parcels and 140 structures. Permanent levee repairs were completed in 1994. However, problems with the levee continue as evidenced by a second levee failure in 2003. This was a piping failure, believed to have been caused by desiccation cracks, root channels, rodent burrows, a structural flaw, and other factors.

Recent studies indicate that the levee now only provides a 55-year level of protection. The Federal Emergency Management Agency (FEMA) has completed decertification of the levee for 100-year protection, returning approximately 2,700 individual parcels and 1,500 structures to the regulated floodplain. Owners of developed properties in this area will now be required to obtain flood insurance from the National Flood Insurance Program. The Navajo County Public Works Department is attempting to rehabilitate the levee along the 7.2 mile reach east of Winslow. Navajo County is seeking assistance from the USACE to resolve recurrent flooding problems in the Winslow community.

The potential environmental impacts to be evaluated by this DEIS will include: (1) Non-structural solutions to address flooding issues; (2) engineered solutions to address flooding issues; (3) opportunities for ecosystem restoration, especially as necessary to support the primary purpose of flood risk management; (4) mitigation of impacts to cultural resources, and; (5) designs for recreational features which would be most compatible with the natural resources of the region.

Prehistoric and historic cultural resources are abundant along the 18 mile reach of the Little Colorado River Feasibility Study area. Sensitive natural habitats for federally listed species in the general vicinity of the confluence of Chevelon Creek with the Little Colorado River have previously been identified by the U.S. Fish and Wildlife Service (USFWS), and the Arizona Game and Fish Department (AZGFD).

3. Proposed Action. No plan of action has yet been identified.

4. Alternatives. a—No Action: No plans would be implemented to reduce flood risk to the Winslow area.

b—Proposed Alternative Plans: None have been formulated to date.

5. Public Involvement. Public involvement, an essential part of the EIS process, is integral to assessing the environmental consequences of the proposed action and improving the quality of the environmental decision making. The public includes affected and interested Federal, State, and local agencies, Indian tribes, concerned citizens, stakeholders, and other interested parties. Public participation in the EIS process will be strongly encouraged, both formally and informally, to enhance the probability of a more technically accurate, economically feasible, and socially and politically acceptable EIS. Public involvement will include but is not limited to: Information dissemination; identification of problems, needs and opportunities; idea generation; public education; problem solving; providing feedback on proposals; evaluation of alternatives; conflict resolution by consensus; public and scoping notices and meetings; public, stakeholder and advisory groups consultation and meetings; and making the EIS and supporting information readily available in conveniently located places, such as libraries and on the Internet.

Participation of all interested Federal, State, and County resource agencies, as well as Native American peoples, groups with environmental interests, and all interested individuals is encouraged. Public involvement will be most beneficial and worthwhile in identifying pertinent environmental issues, offering useful information such as published or unpublished data, direct personal experience or knowledge which inform decision making, assistance in defining the scope of plans which ought to be considered, and recommending suitable mitigation measures warranted by such plans. Those wishing to contribute information, ideas, alternatives for actions, and so forth can furnish these contributions in writing to the points of contacts indicated above, or by attending public scoping meetings. Notice of public scoping meetings will be published in the local and regional newspapers.

When plans have been devised and alternatives formulated to embody those plans, potential environmental and social impacts will be evaluated in the DEIS. These analyses will emphasize at least fifteen categories of resources: Land use, impromptu historic landfills created by dumping trash over the banks, hazardous wastes, physical environment, hydrology, groundwater, biological, archaeological, historical, geological, air quality, noise, transportation, socioeconomics, and safety.

6. Scoping Process. Scoping, an early and open process for identifying the scope of significant issues related to the proposed action to be addressed in the EIS, will be used to: (a) Identify the affected public and agency concerns; (b) facilitate an efficient EIS preparation process; (c) define the issues and alternatives that will be examined in detail in the EIS; and (d) save time in the overall process by helping to ensure that the Draft EIS adequately addresses relevant issues. An initial public scoping meeting will be held on Tuesday, March 24, 2009, in Winslow, AZ. Announcements through local and regional media, as well as a scoping meeting public notice announcing the location, date and time of the scoping meeting will be mailed to all interested parties during February 2009. Interested parties are encouraged to express their views throughout the entire study process. Comments will be welcomed at the public scoping meeting. In addition, written comments will also be accepted during the scoping comment period which will extend 30 days from the date of the scoping meeting public notice.

7. Interagency Coordination and Cooperation. The USACE and the USFWS have formally committed to work together to conserve, protect, and restore fish and wildlife resources while ensuring environmental sustainability of our Nation's water resources under the January 22, 2003, Partnership Agreement for Water Resources and Fish and Wildlife. The USFWS will provide a Fish and Wildlife Coordination Act Report. Coordination will be maintained with the USFWS regarding threatened and endangered species under their jurisdictional responsibilities. The Arizona Game and Fish Department (AZGFD) will be consulted concerning potential impacts to sensitive species and habitats. Coordination will be maintained with the Advisory Counsel on Historic Preservation and the State Historic Preservation Officer (SHPO). Coordination will be maintained with the U.S. Environmental Protection Agency (USEPA) concerning compliance with Executive Order 12898, “Federal Action to Address Environmental Justice in Minority Populations and Low-Income Populations.”

8. Availability of the EIS. It is anticipated that the DEIS will be available for public review during the spring of 2011. The DEIS or a Notice of Availability (NOA) will be provided during the 45-day review period to affected Federal, State and local agencies, Indian Tribes, and other interested parties.

Dated: February 25, 2009.
Thomas H. Magness,
Colonel, U.S. Army, District Engineer.

[FR Doc. E9-4200 Filed 2-26-09; 8:45 am]

BILLING CODE 3720-58-P